COMMISSION ON CIVIL RIGHTS

Sunshine Act Meeting Notice

AGENCY: United States Commission on Civil Rights.

ACTION: Notice of Commission telephonic business meeting.

DATES: Thursday, December 21, 2017, at 3:30 p.m. EST.

ADDRESSES: Meeting to take place by telephone.

FOR FURTHER INFORMATION CONTACT: Brian Walch, (202) 376-8371, publicaffairs@usccr.gov.

SUPPLEMENTARY INFORMATION: This business meeting is open to the public by telephone only.

PARTICIPANT ACCESS INSTRUCTIONS: Listen Only, Toll Free: 1-888-219-1420; Conference ID: 5586588. Please dial in 5-10 minutes prior to the start time.

Meeting Agenda

I. Approval of Agenda

II. Program Planning

• Discussion and Vote on Commission's Strategic Plan for Fiscal Years 2019-2022

• Discussion and Vote on Revised Report: Public Education Funding Inequity in an Era of Increasing Concentration of Poverty and Resegregation

• Discussion and Vote on Timeline, Discovery Plan, and Outline for the Commission's FY19 Report on Federal Civil Rights Enforcement Efficacy

V. Adjourn Meeting

Dated: December 12, 2017.
Brian Walch,
Director, Communications and Public Engagement.

[FR Doc. 2017-27138 Filed 12-13-17; 11:15 am]

BILLING CODE 6335-01-P